DEPARTMENT OF LABOR

Employment and Training Administration

[TA-W-41,181]

Motorola Integrated Electronics Systems Sector, Automotive Communication Electronic Systems, Elma, NY; Notice of Negative Determination Regarding Application for Reconsideration

By application of November 12, 2002, the company requested administrative reconsideration of the Department's negative determination regarding eligibility for workers and former workers of the subject firm to apply for Trade Adjustment Assistance (TAA). The denial notice was signed on September 25, 2002 and published in the Federal Register on October 10, 2002 (67 FR 63159).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Motorola, Integrated Electronics Systems Sector, Automotive Communication Electronic Systems Group, Elma, New York, engaged in the production of automotive electronic modules-printed circuit board products, was denied because the “contributed importantly” group eligibility requirement of Section 222(3) of the Trade Act of 1974, as amended, was not met. The “contributed importantly” test is generally demonstrated through a survey of the workers' firm's customers. The Department conducted a survey of the subject firm's major customers regarding their purchases of automotive electronic modules-printed circuit board products. The respondents reported no increased imports during periods where they decreased purchases from the subject firm. The subject firm did not import automotive electronic modules-printed circuit board products.

In their initial request for reconsideration (dated November 20, 2002), the company official alleged that “data provided by our major customer regarding increases of imports is not accurate”.

A review of the initial customer survey revealed an increase in customer imports in January through September 12, 2002 compared to 2001. However, this customer also reported that they more than doubled their purchases from the Elma facility in January through September 12, 2002 relative to 2001 (as reported in dollars). As there were no declines in purchases from the domestic subject plant in the period when imports began, there is no evidence of import impact. Further, a clarifying conversation with the company confirmed that the figures provided by the customer were in fact accurate. The company official clarified that, although they had laid off employees in anticipation of a shift in production, an unexpected increase in production orders for the Elma facility had led to a delay in the production shift.

In a follow up letter (dated December 20, 2002), the company provided figures for production at the Elma facility and a foreign facility in regard to their production for their major customer. In this table, the figures indicate a decline in production at the subject firm in calendar year 2002 over 2001 and a corresponding increase in production shifted to a foreign source for the same time periods.

When contacted about these figures, the company official clarified that the subject facility's declining production figures were inaccurate due to the unexpected increase in production demand at the subject facility. Further, the company gives no indication of increased imports relative to production at the subject facility.

Conclusion

After review of the application and investigative findings, I conclude that there has been no error or misinterpretation of the law or of the facts which would justify reconsideration of the Department of Labor's prior decision. Accordingly, the application is denied.

Signed at Washington, DC, this 24th day of February, 2003.
Edward A. Tomchick,
Director, Division of Trade Adjustment Assistance.

[FR Doc. 03-6416 Filed 3-17-03; 8:45 am]

BILLING CODE 4510-30-P